GULF COAST ECOSYSTEM RESTORATION COUNCIL

[Docket No.: 106012017-1111-13]

Notice of Proposed Subaward Under a Council-Selected Restoration Component Award

AGENCY: Gulf Coast Ecosystem Restoration Council.

ACTION: Notice.

SUMMARY: The Gulf Coast Ecosystem Restoration Council (Council) publishes notice of a proposed subaward from the Texas Commission on Environmental Quality (TCEQ) to the Houston Parks Board (HPB), a nonprofit organization, for the purpose of acquiring multiple properties in along the Clear Creek Greenway as part of the larger Bayou Greenways Initiative in accordance with the Bayou Greenways Planning and Implementation Award as approved in the Initial Funded Priority List.

FOR FURTHER INFORMATION CONTACT: Please send questions by email to raams_pgmsupport@restorethegulf.gov.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priority List, which is available on the Council's Web site at https://www.restorethegulf.gov/council-selected-restoration-component/funded-priorities-list, RESTORE Act funds in the amount of $7,109,000 will support the Bayou Greenways Planning and Implementation Award (Bayou Greenways Award) to TCEQ. TCEQ will provide a subaward in the amount of $7,085,022 to HPB to purchase and conserve approximately 80 to 100 acres of land through fee title acquisition from willing sellers. HPB intends to transfer title of acquired lands to the Houston Parks and Recreation Department for preservation in perpetuity as parkland. The subaward will contribute to the Bayou Greenways Initiative's long-term goal of preserving and restoring nearly 4,000 acres of riparian buffer corridors along the major waterways (bayous and creeks) running predominately through Harris County and the City of Houston. These waterways are connected to a region known as the Trinity-San Jacinto Estuary (Galveston Bay)—the largest watershed in Texas. Through the Bayou Greenways Initiative, HPB has partnered with the City of Houston and the Harris County Flood Control District to preserve, restore and provide public access these important ecological assets in the 4th largest city in the nation.

Will D. Spoon,
Program Analyst, Gulf Coast Ecosystem Restoration Council.

[FR Doc. 2017-11309 Filed 5-31-17; 8:45 am]

BILLING CODE 6560-58-P